DEPARTMENT OF HEALTH AND HUMAN SERVICES

Centers for Disease Control and Prevention

[Docket No. CDC-2015-0049]

Notice of Availability of the Final Environmental Assessment and a Finding of No Significant Impact for HHS/CDC Lawrenceville Campus Proposed Improvements 2015-2025, Lawrenceville, Georgia

AGENCY: Centers for Disease Control and Prevention, Department of Health and Human Services (HHS).

ACTION: Notice.

SUMMARY: The Centers for Disease Control and Prevention (CDC), within the Department of Health and Human Services (HHS), is issuing this notice to advise the public that HHS/CDC has prepared and signed on February 9, 2016 a Finding of No Significant Impact (FONSI) based on the Final Environmental Assessment (Final EA) for the HHS/CDC Lawrenceville Campus Proposed Improvements 2015-2025 on the HHS/CDC Lawrenceville Campus, Lawrenceville, Georgia. The Final EA has been prepared in accordance with the National Environmental Policy Act of 1969 (NEPA), as amended (42 U.S.C. 4321 et seq.), the Council on Environmental Quality (CEQ) implementing regulations (40 CFR 1500-1508) and the HHS General Administration Manual (GAM) Part 30 Environmental Procedures, dated February 25, 2000.

DATES: The FONSI and Final EA are available as February 16, 2016.

FOR FURTHER INFORMATION CONTACT: Copies of the FONSI and/or the Final EA or additional information may be obtained by contacting Angela Wagner, Portfolio Manager, Centers for Disease Control and Prevention, 1600 Clifton Road NE., MS-K96, Atlanta, GA 30329. Telephone: (770) 488-8170.

SUPPLEMENTARY INFORMATION: The Centers for Disease Control and Prevention (CDC) within the U.S. Department of Health and Human Services (HHS), has prepared an Environmental Assessment (EA), to assess the potential impacts associated with the undertaking of proposed improvements on the HHS/CDC's Lawrenceville Campus located at 602 Webb Gin House Road in Lawrenceville, Georgia. The proposed improvements include: (1) Building demolition; (2) new building construction, including an approximately 12,000 gross square feet (gsf) Science Support Building, a new Transshipping and Receiving Area at approximately 2,500 gsf and two new small Office Support Buildings at 8,000 gsf and 6,000 gsf; (3) expansion and relocation of parking on campus; and (4) the creation of an additional point of access to the campus. The proposed improvements would be undertaken between the time period of 2015 and 2025 and are contingent on receipt of funding. The proposed improvements are needed to maintain an appropriate facilities quality level on the Lawrenceville Campus.

On August 14, 2015, HHS/CDC published a notice in the Federal Register (80 FR 48863) announcing the availability of a Draft EA and requesting public comment. The comment period ended on September 28, 2015. No substantive comments were received that raised specific issues or concerns with the methodology, analysis, conclusion or accurateness of the EA.

Based on the analysis of environmental impacts in the EA and in accordance with NEPA, HHS/CDC has determined that the proposed action will not significantly affect the human or natural environment and therefore does not require the preparation of an environmental impact statement.

Dated: February 10, 2016.
Sandra Cashman,
Executive Secretary, Centers for Disease Control and Prevention.

[FR Doc. 2016-03059 Filed 2-12-16; 8:45 am]

BILLING CODE 4163-18-P